GENERAL SERVICES ADMINISTRATION

Office of Governmentwide Policy; Revision of the Standard Form 1103

AGENCY: Office of Governmentwide Policy, GSA.

ACTION: Notice.

SUMMARY: The General Services Administration, Office of Governmentwide Policy revised Standard Form 1103, U.S. Government Bill of Lading to reflect the new regulation on transportation payments and audits. This form is now used only for overseas and international shipments. All other shipments follow the procedures in 41 CFR 102-118.

SF 1103 (which new title is U.S. Government Bill of Lading—International and Domestic Overseas Shipments) is authorized for local reproduction. You can obtain the updated camera copy in two ways:

On the Internet. Address: http://w3.gsa.gov//web/c/newform.nsf/MainMenu?OpenForm, or;

From GSA, Forms Management, Attn.: Barbara Williams, (202) 501-0581.

FOR FURTHER INFORMATION CONTACT: Ms. Barbara Williams, General Services Administration, (202) 501-0581 for availability of the form and Ed Davis, General Services Administration (202) 208-7638 for any other information.

DATES: Effective November 20, 2003.

Dated: November 5, 2003.
Barbara M. Williams,
Deputy Standard and Optional Forms Management Officer, General Services Administration.

[FR Doc. 03-28939 Filed 11-19-03; 8:45 am]

BILLING CODE 6820-34-M